DEPARTMENT OF TRANSPORTATION

Federal Motor Carrier Safety Administration

[Docket No. FMCSA-2017-0025]

Qualification of Drivers; Exemption Applications; Vision

AGENCY: Federal Motor Carrier Safety Administration (FMCSA), DOT.

ACTION: Notice of denials.

SUMMARY: FMCSA announces its decision to deny applications from 109 individuals who requested an exemption from the vision standard in the Federal Motor Carrier Safety Regulations (FMCSRs) to operate a CMV in interstate commerce.

FOR FURTHER INFORMATION CONTACT: Ms. Christine A. Hydock, Chief, Medical Programs Division, (202) 366-4001, fmcsamedical@dot.gov, FMCSA, Department of Transportation, 1200 New Jersey Avenue SE., Room W64-224, Washington, DC 20590-0001. Office hours are from 8:30 a.m. to 5 p.m., ET, Monday through Friday, except Federal holidays.

SUPPLEMENTARY INFORMATION:

I. Electronic Access

You may see all the comments online through the Federal Document Management System (FDMS) at: http://www.regulations.gov.

Docket: For access to the docket to read background documents or comments, go to http://www.regulations.gov and/or Room W12-140 on the ground level of the West Building, 1200 New Jersey Avenue SE., Washington, DC, between 9 a.m. and 5 p.m., ET, Monday through Friday, except Federal holidays.

Privacy Act: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

II. Background

FMCSA received applications from 109 individuals who requested an exemption from the vision standard in the FMCSRs.

FMCSA has evaluated the eligibility of these applicants and concluded that granting these exemptions would not provide a level of safety that would be equivalent to or greater than, the level of safety that would be obtained by complying with the regulation 49 CFR 391.41(b)(10).

III. Basis for Exemption Determination

Under 49 U.S.C. 31136(e) and 31315, FMCSA may grant an exemption for two years if it finds “such an exemption would likely achieve a level of safety that is equivalent to, or greater then, the level that would be achieved absent such an exemption.”

The Agency's decision regarding these exemption applications is based on the eligibility criteria, the terms and conditions for Federal exemptions, and an individualized assessment of each applicant's medical information provided by the applicant.

IV. Conclusion

The Agency has determined that these applicants do not satisfy the criteria eligibility or meet the terms and conditions of the Federal exemption and granting these exemptions would not provide a level of safety that would be equivalent to or greater than, the level of safety that would be obtained by complying with the regulation 49 CFR 391.41(b)(10). Therefore, the 109 applicants in this notice have been denied exemptions from the physical qualification standards in 49 CFR 391.41(b)(10).

Each applicant has, prior to this notice, received a letter of final disposition regarding his/her exemption request. Those decision letters fully outlined the basis for the denial and constitute final action by the Agency. This notice summarizes the Agency's recent denials as required under 49 U.S.C. 31315(b)(4) by periodically publishing names and reasons for denial.

The following 33 applicants had no experience operating a CMV:

Leaslie T. Allen (SC)

Harryson F.R. Barragan (CA)

Ken A. Barrow (LA)

Corey A. Becker (NE)

Kathryn W. Brunt-Avunduk (NJ)

Speedi G. Burrell (RI)

Indigo J. Curtis (GA)

Larry D. Darden (NC)

Collin J. D'Brant (NY)

Abdulrahman M. Edle (MN)

Teorie K. Evans (IN)

Justin S. Gantt (NC)

Brad K. Humphrey (OH)

Matthew W. Jordan (TN)

Matthew J. LaFeldt (MI)

Alex W. Leath (VA)

Jerry P. Ledet, Jr. (LA)

Richard K. Lowman (PA)

Erik D. Manz (OK)

Carlos R. McCarthy (NH)

Mark L. Meriweather (KY)

Mark W. Modzelewski (NJ)

Jerry Nicolas (NJ)

Jose A. Ortega (FL)

Michael T. Quiggins (IN)

Gary M. Shoultz (IN)

Kerry S. Staker (WY)

Sherwood W. Swick (ID)

Brian Thompson (KY)

Robby L. Tovrea (IA)

Jimmy Travis (NJ)

James E. Turturici (AL)

Rodney J. Watkins (NC)

The following 18 applicants did not have three years of experience driving a CMV on public highways with their vision deficiencies:

Samuel J. Bagwell (MO)

Denis Cuzimencov (NC)

Howard R. Funderburk (WA)

Lonnie J. Gaines (MD)

DeMario D. Gordon (TX)

Stephen L. Hickinson (NJ)

James S. Hosmer (AL)

John K. Johnson (TX)

Shane E. Johnson (KY)

John E. Lewis (IN)

Robert E. McMahon (NV)

Rodolfo D. Meza (MD)

Georgio D. Rapposelli (PA)

Darrel J. Roy (WA)

Michael D. Saltsman (KY)

Curtis L. Shivers (IL)

Adam L. Temple (GA)

Stephen Wilson (PA)

The following eight applicants did not have three years of recent experience driving a CMV with the vision deficiency:

Joseph R. Burroughs (AL)

Allen E. Jennings (ID)

Michael S. Lomax (LA)

Brian K. Manca (MA)

Charles Reid (NJ)

Ernest M. Smith, Jr. (LA)

Thomas VanPool (OK)

Danny R. Wood (NC)

The following seven applicants did not have sufficient driving experience during the past three years under normal highway operating conditions (gaps in driving record):

Robie F. Abbott (WV)

David J. Carter (OR)

John M. Ford (NY)

Joseph B. Fullen (TX)

Abdulsalam M. Halool (MI)

Frank M. Howell (PA)

Dwayne S. Tiffany (UT)

The following six applicants were denied for multiple reasons:

Russell D. Kraemer (MO)

Julie D. Larson (WY)

Larry D. Neely (IL)

Richard Nielsen (IL)

Philip P. Phegley (IN)

Kenneth E. Warbington (GA)

The following two applicants have not had stable vision for the preceding three year period:

Donald L. Shay (MO)

Norris V. Watson (AL)

The following three applicants met the current federal vision standards. Exemptions are not required for applicants who meet the current regulations for vision:

Earl T. Baker (KY)

Ryan S. Stauffer (MT)

Robert Williams (NC)

The following 27 applicants will not be driving interstate, intrastate commerce, or are not required to carry a DOT medical card:

Percy L. Anderson (IL)

Michael Beaudoin (TX)

Victor M. Benedith (NY)

Mingle Blake (FL)

Ernesto Castillo (CA)

Randolph L. Davidson (CA)

William A. Dickinson (WA)

Charles M. Dixon, Jr. (OH)

David A. Faudoa (AZ)

Kenneth A. Floyd (FL)

Maxie L. Gentry (VA)

Bryan K. Hall (NY)

James C. Hall (WA)

Jamahon L. Henderson (OH)

Antonio Ibarrah-Ramirez (OK)

Lon J. Knoshal (MN)

Brent D. Landry (LA)

Donald B. Marsh (MD)

Chris G. Mosley (SC)

Jonathan P. Mott (WI)

Javier T. Ramirez (TX)

Edward H. Riglioni, Jr. (FL)

Francisco L. Rodriguez (CA)

Jason S. Spurlock, Sr. (LA)

Roger L. Sutton (LA)

Efrain S. Villalobos (CA)

Anthony W. Zwolinski (MI)

The following five applicants perform transportation for the Federal government, state, or any political sub-division of the state:

Nathan N. Botsch (AZ)

Derrick A. Hardy (DC)

Lindsey Manzi (PA)

Jeffery Radermacher (ND)

John R.A. Taylor (VA)

Issued on: November 17, 2017.
Larry W. Minor,
Associate Administrator for Policy.

[FR Doc. 2017-25522 Filed 11-24-17; 8:45 am]

BILLING CODE 4910-EX-P